COMMITTEE FOR PURCHASE FROM PEOPLE WHO ARE BLIND OR SEVERELY DISABLED

Procurement List; Additions and Deletions

AGENCY: Committee for Purchase From People Who Are Blind or Severely Disabled.

ACTION: Additions to and deletions from the Procurement List.

SUMMARY: This action adds services to the Procurement List that will be provided by nonprofit agencies employing persons who are blind or have other severe disabilities, and deletes products and a service from the Procurement List previously furnished by such agencies.

DATES: Effective Date: 6/16/2014.

ADDRESSES: Committee for Purchase From People Who Are Blind or Severely Disabled, 1401 S. Clark Street, Suite 10800, Arlington, Virginia, 22202-4149.

FOR FURTHER INFORMATION CONTACT: Barry S. Lineback, Telephone: (703) 603-7740, Fax: (703) 603-0655, or email CMTEFedReg@AbilityOne.gov.

SUPPLEMENTARY INFORMATION:

Additions

On 2/7/2014 (79 FR 7428) and 3/14/2014 (79 FR 14485), the Committee for Purchase From People Who Are Blind or Severely Disabled published notices of proposed addition to the Procurement List.

After consideration of the material presented to it concerning capability of qualified nonprofit agencies to provide the services and impact of the additions on the current or most recent contractors, the Committee has determined that the services listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will provide the services the Government.

2. The action will result in authorizing small entities to provide the services to the Government.

3. There are no known regulatory alternatives which would accomplish the objectives of the Javits-Wagner-O'Day Act (41 U.S.C. 8501-8506) in connection with the services proposed for addition to the Procurement List.

End of Certification

Accordingly, the following services are added to the Procurement List:

Services

Service Type/Location: Base Supply Center Service, U.S. Army, Tobyhanna Army Depot, 11 Hap Arnold Blvd., Tobyhanna, PA

NPA: Central Association for the Blind & Visually Impaired, Utica, NY

Contracting Activity: DEPT OF THE ARMY, W0ML USA DEP TOBYHANNA, TOBYHANNA, PA

Service Type/Location: Supply Room Service, Social Security Administration Regional Office, 1301 Young Street, Dallas TX

NPA: Dallas Lighthouse for the Blind, Inc., Dallas, TX

Contracting Activity: SOCIAL SECURITY ADMINISTRATION, HDQTRS—OFFICE OF ACQUISITION & GRANTS, BALTIMORE, MD

Deletions

On 3/28/2014 (79 FR 17509-17510); 4/4/2014 (79 FR 18891-18892); and 4/11/2014 (79 FR 20190-20191), the Committee for Purchase From People Who Are Blind or Severely Disabled published notices of proposed deletions from the Procurement List.

After consideration of the relevant matter presented, the Committee has determined that the products and service listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products and service to the Government.

3. There are no known regulatory alternatives which would accomplish the objectives of the Javits-Wagner-O'Day Act (41 U.S.C. 8501-8506) in connection with the products and service deleted from the Procurement List.

End of Certification

Accordingly, the following products and service are deleted from the Procurement List:

Products

3M Twist N Fill Dispensing System

NSN: 7930-01-381-5794—Heavy Duty Aircraft Cleaner

NPA: Beacon Lighthouse, Inc., Wichita Falls, TX

Contracting Activities: U.S. POSTAL SERVICE, WASHINGTON, DC DEPARTMENT OF VETERANS AFFAIRS, NAC, HINES, IL GENERAL SERVICES ADMINISTRATION, FORT WORTH, TX

Napkin, Table, Paper

NSN: 8540-01-350-6417

NSN: 8540-01-351-2150

NPA: UNKNOWN

Contracting Activity: GENERAL SERVICES ADMINISTRATION, FORT WORTH, TX

SKILCRAFT SAVVY Non-Acid Bathroom Cleaner

NSN: 7930-01-517-2727—Cleaner, Bathroom, Non-Acid, SKILCRAFT Savvy, 32 oz

NSN: 7930-01-517-5916—Cleaner, Bathroom, Non-Acid, SKILCRAFT Savvy, 5 GL

NSN: 7930-01-517-5917—Cleaner, Bathroom, Non-Acid, SKILCRAFT Savvy, 55 GL

NPA: Vision Corps, Lancaster, PA

Contracting Activities: DEPARTMENT OF VETERANS AFFAIRS, NAC, HINES, IL GENERAL SERVICES ADMINISTRATION, FORT WORTH, TX

Folder, File

NSN: 7530-00-985-7010—Folder, File

NSN: 7530-00-205-3613—Folder, File

NPA: Goodwill Industries of the Pioneer Valley, Inc., Springfield, MA

Contracting Activity: GENERAL SERVICES ADMINISTRATION, NEW YORK, NY

Squeegee, Ergonomic Style Handle

NSN: 7920-01-503-5368—Squeegee, Ergonomic Style Handle

NSN: 7920-01-503-5369—Squeegee, Ergonomic Style Handle

NSN: 7920-01-503-5370—Squeegee, Ergonomic Style Handle

NSN: 7920-01-503-5371—Squeegee, Ergonomic Style Handle

NPA: Industries for the Blind, Inc., West Allis, WI

Contracting Activities: DEPARTMENT OF VETERANS AFFAIRS, NAC, HINES, IL GENERAL SERVICES ADMINISTRATION, FORT WORTH, TX

Service

Service Type/Location: Custodial Services, Huntsville Warehouse 351, 351 Electronics Blvd., Huntsville, AL

NPA: Huntsville Rehabilitation Foundation, Huntsville, AL

Contracting Activity: DEPARTMENT OF DEFENSE, MISSILE DEFENSE AGENCY (MDA), REDSTONE ARSENAL, AL

Barry S. Lineback,
Director, Business Operations.

[FR Doc. 2014-11373 Filed 5-15-14; 8:45 am]

BILLING CODE 6353-01-P